GENERAL SERVICES ADMINISTRATION

Notice-ID-2022-0X; Docket No. 2022-000X; Sequence No. XX]

Privacy Act of 1974; System of Records

AGENCY: General Services Administration, (GSA).

ACTION: Notice of a Modified System of Records.

SUMMARY: GSA proposes to revise a system of records subject to the Privacy Act of 1974, as amended. The system will provide for the collection of information to track and manage the Art in Architecture program, the National Artist Registry, and the fine arts collection.

DATES: Applicable: August 11, 2022.

ADDRESSES: Submit comments identified by “Notice-ID-2022-0X, Modify System of Records” via http://www.regulations.gov. Search regulations.gov for Notice-ID-2022-0X, Modified System of Records Notice. Select the link “Comment” that corresponds with “Notice-ID-2022-0X, Modified System of Records Notice.” Follow the instructions provided on the screen. Please include your name, company name (if any), and “Notice-ID-2022-0X, Modified System of Records Notice” on your attached document. If your comment cannot be submitted using regulations.gov, call or email the points of contact in the FOR FURTHER INFORMATION CONTACT section of this document for alternate instructions.

FOR FURTHER INFORMATION CONTACT: Call or email the GSA Chief Privacy Officer: telephone 202-322-8246; email gsa.privacyact@gsa.gov.

SUPPLEMENTARY INFORMATION: GSA proposes to modify a system of records subject to the Privacy Act of 1974, 5 U.S.C. 552a. The modified system will continue to provide for the collection of information to track and manage the Art in Architecture program and now includes optional data elements within the “categories of records”, clarifies one routine use and updates the records retention description to enhance collection management.

SYSTEM NAME AND NUMBER:

The Museum System (TMS) GSA/PBS-7.

SECURITY CLASSIFICATION:

Unclassified.

SYSTEM LOCATION:

The system is maintained for GSA under contract, and the records are maintained in electronic form. The system and records are located at the vendor location in RTP Data Center (GSA Building Code NC9999), 109 T.W. Alexander Drive, Research Triangle Park, NC 27711.

SYSTEM MANAGER:

General Services Administration, Attn: Jennifer Gibson, Director, Center for Fine Arts, 1800 F Street NW, Washington, DC 20405; email jennifer.gibson@gsa.gov.

* * * * *

CATEGORIES OF RECORDS IN THE SYSTEM:

The system contains information needed for managing the Art in Architecture, Fine Arts, and the Design Excellence Peer programs, which includes access to information on artists represented in the fine arts collection, artists in the National Registry, and participants in the Design Excellence Peer program. Records may include but are not limited to: (1) Biographical data such as name, birth date, and educational level; and (2) contact information such as telephone number, street address and email address; and (3) optional demographic information including gender, race and ethnicity.

ROUTINE USES OF RECORDS MAINTAINED IN THE SYSTEM, INCLUDING CATEGORIES OF USERS AND PURPOSES OF SUCH USES:

h. In consultation with the artist or the artist's representatives and consistent with professional practices in other arts institutions, nationality, city, state, country and year of birth may be disclosed to the public when relevant to an artist's work.

POLICIES AND PRACTICES FOR RETENTION AND DISPOSAL OF RECORDS:

121.1/040 Significant Art Inventory Records.

This series contains records used in identifying items within the building that are removable or replaceable, or have a significant historical and/or architectural value. For art associated with a building (such as statuary, paintings, and architectural features), records such as inventories, case files, art maintenance records, art appraisals and art restoration documents and related materials are included.

Retention: Permanent. Cut off at the end of the fiscal year when the case file is closed, the artifact is destroyed, transferred, or otherwise de-accessioned. Transfer to NARA 15 years after cutoff.

Legal Authority: DAA-0121-2015-0001-0007 (121.1/040). 121.1/041 Routine Equipment and Art Inventory Records. This series contains records used in identifying equipment and items within the building that are removable or replaceable. Included are inventories of heating, electrical, plumbing, and air handling equipment, vertical transportation equipment and records related to recording the condition, maintenance, and associated schedules, documentation, and schematics for that equipment. For managing statuary, paintings, and architectural features associated with a building, records include routine correspondence and maintenance reports, exhibition and curated collections management documents, proposal submissions, and other records not filed under 121.1/040—Significant Art Inventory Records.

Retention: Temporary. Cut off at the end of the fiscal year when art or equipment has been deaccessioned, obsolete, or superseded, a case file is closed, or when related documents expire. Destroy 5 fiscal years after cutoff.

Legal Authority: DAA-0121-2015-0001-0008 (121.1/041).

* * * * *

HISTORY:

86 FR 46849.

Dated: June 29, 2022.
Richard Speidel,
Chief Privacy Officer, Office of the Deputy Chief Information Officer, General Services Administration.

[FR Doc. 2022-14827 Filed 7-11-22; 8:45 am]

BILLING CODE 6820-34-P